DEPARTMENT OF THE TREASURY

United States Mint

Notification of Citizens Coinage Advisory Committee February 11, 2014, Public Meeting

ACTION: Notification of Citizens Coinage Advisory Committee February 11, 2014, Public Meeting.

SUMMARY: Pursuant to United States Code, Title 31, section 5135(b)(8)(C), the United States Mint announces the Citizens Coinage Advisory Committee (CCAC) public meeting scheduled for February 11, 2014.

Date: February 11, 2014

Time: 10:00 a.m. to 2:30 p.m.

Location: Conference Room A, United States Mint, 801 9th Street NW., Washington, DC 20220

Subject: Review and discussion of candidate designs for the 2015 America the Beautiful Quarters® Program. In addition, the CCAC will review and discuss its Fiscal Years 2013 and 2014 Annual Reports.

Interested persons should call the CCAC HOTLINE at (202) 354-7502 for the latest update on meeting time and room location.

In accordance with 31 U.S.C. 5135, the CCAC:

Advises the Secretary of the Treasury on any theme or design proposals relating to circulating coinage, bullion coinage, Congressional Gold Medals, and national and other medals.

Advises the Secretary of the Treasury with regard to the events, persons, or places to be commemorated by the issuance of commemorative coins in each of the five calendar years succeeding the year in which a commemorative coin designation is made.

Makes recommendations with respect to the mintage level for any commemorative coin recommended.

FOR FURTHER INFORMATION CONTACT: William Norton, United States Mint Liaison to the CCAC; 801 9th Street NW., Washington, DC 20220; or call 202-354-7200.

Any member of the public interested in submitting matters for the CCAC's consideration is invited to submit them by fax to the following number: 202-756-6525.

Authority: 31 U.S.C. 5135(b)(8)(C).

Dated: January 31, 2014.
Richard A. Peterson,
Deputy Director, United States Mint.

[FR Doc. 2014-02436 Filed 2-4-14; 8:45 am]

BILLING CODE 4810-37-P